DEPARTMENT OF VETERANS AFFAIRS

[OMB Control No. 2900-New (VA Form 10-0536)]

Agency Information Collection: (PACT Patient Experiences Survey); Comment Request

AGENCY: Veterans Health Administration, Department of Veterans Affairs.

ACTION: Notice.

SUMMARY: In compliance with the Paperwork Reduction Act (PRA) of 1995 (44 U.S.C. 3501-3521), this notice announces that the Department of Veterans Affairs (VA), will submit to the Office of Management and Budget (OMB) the following emergency proposal for the collection of information under the provisions of the Paperwork Reduction Act (44 U.S.C. 3507(j)(1)). An emergency clearance is being requested for information needed to improve patient care through specific mechanisms. VA has undertaken an initiative to implement a patient-centered medical home model, “Patient Aligned Care Team” or PACT at all Veterans Health Administration (VHA) Ambulatory Primary Care sites. This initiative supports the VHA's Universal Health Care Services Plan to redesign VHA healthcare delivery through increasing access, coordination, communication, and continuity of care. The patient experiences from this data collection are intended to help form future national VA policy.

DATES: Comments must be submitted on or before August 31, 2012.

ADDRESSES: Send comments and recommendations concerning any aspect of the information collection to VA's OMB Desk Officer, OMB Human Resources and Housing Branch, New Executive Office Building, Room 10235, Washington, DC 20503 (202) 395-7316 or Fax (202) 395-6974. Please refer to “2900-New (VA Form 10-0536).”

FOR FURTHER INFORMATION CONTACT: Denise McLamb, Enterprise Records Service (005R1B), Department of Veterans Affairs, 810 Vermont Avenue NW., Washington, DC 20420, (202) 632-7479, Fax (202) 632-7583 or email: denise.mclamb@va.gov. Please refer to “OMB Control No. 2900-New (VA Form 10-0536).

SUPPLEMENTARY INFORMATION:

Title: PACT Patient Experiences Survey, VA Form 10-0536.

OMB Control Number: 2900—New.

Type of Review: New data collection.

Abstract: The data collected on VA Form 10-0536 will be used to implement a patient-centered medical home at all Veterans Health Administration Ambulatory Primary Care sites. The medical home provides accessible, coordinated, comprehensive, patient-centered care, and is managed by primary care providers with the active involvement of other clinical and non-clinical staff. The medical home allows patients to have a more active role in their health care and is associated with increased quality improvement, patient satisfaction, and a decrease in hospital costs due to fewer hospital visits and readmissions. The information collected will be used by the VAAAHS PACT Demonstration Laboratory and the Ambulatory Care Service to evaluate the universal VHA PACT Systems Redesign, document patient experiences over time, and improve patient care through specific mechanisms.

Affected Public: Individuals or households.

Estimated Annual Burden: 2,400 hours.

Estimated Average Burden Per Respondent: 30 minutes.

Frequency of Response: On occasion.

Estimated Number of Respondents: 2,400.

Estimated Number of Responses: 4,800.

Dated: August 16, 2012.
By direction of the Secretary.
Denise McLamb,
Program Analyst Director, Enterprise Records Service.

[FR Doc. 2012-20455 Filed 8-20-12; 8:45 am]

BILLING CODE 8320-01-P